FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 010099-055.

Title: International Council of Containership Operators.

Parties: A.P. Moller-Maersk A/S; China Shipping Container Lines Co., Ltd.; CMA CGM, S.A.; Compañía Chilena de Navegación Interoceánica S.A.; Compania SudAmericana de Vapores S.A.; COSCO Container Lines Co. Ltd; Crowley Maritime Corporation; Evergreen Marine Corporation (Taiwan), Ltd.; Hamburg-Süd KG; Hanjin Shipping Co., Ltd.; Hapag-Lloyd AG; Hyundai Merchant Marine Co., Ltd.; Kawasaki Kisen Kaisha, Ltd.; MISC Berhad; Mediterranean Shipping Co. S.A.; Mitsui O.S.K. Lines, Ltd.; Neptune Orient Lines, Ltd.; Nippon Yusen Kaisha; Orient Overseas Container Line, Ltd.; Pacific International Lines (Pte) Ltd.; United Arab Shipping Company (S.A.G.); Wan Hai Lines Ltd.; Yang Ming Transport Marine Corp.; and Zim Integrated Shipping Services Ltd.

Filing Party: John Longstreth, Esq.; K & L Gates LLP; 1601 K Street NW.; Washington, DC 20006-1600.

Synopsis: The amendment deletes MISC Berhad from the agreement.

Agreement No.: 011284-070.

Title: Ocean Carrier Equipment Management Association Agreement.

Parties: APL Co. Pte. Ltd.; American President Lines, Ltd.; A.P. Moller-Maersk A/S; CMA CGM, S.A.; Atlantic Container Line; China Shipping Container Lines Co., Ltd; China Shipping Container Lines (Hong Kong) Co., Ltd.; Companhia Libra de Navegacao; Compania Libra de Navegacion Uruguay S.A.; Compania Sud Americana de Vapores, S.A.; COSCO Container Lines Company Limited; Crowley Maritime Corporation; Evergreen Line Joint Service Agreement; Hamburg-Süd; Hapag-Lloyd AG; Hapag-Lloyd USA LLC; Hanjin Shipping Co., Ltd.; Hyundai Merchant Marine Co. Ltd.; Kawasaki Kisen Kaisha, Ltd.; Mediterranean Shipping Company, S.A.; Mitsui O.S.K. Lines Ltd.; Nippon Yusen Kaisha Line; Norasia Container Lines Limited; Orient Overseas Container Line Limited; Yang Ming Marine Transport Corp.; and Zim Integrated Shipping Services, Ltd.

Filing Party: Jeffrey F. Lawrence, Esq. and Donald J. Kassilke, Esq.; Cozen O'Connor; 1627 I Street NW., Suite 1100; Washington, DC 20006.

Synopsis: The amendment would add Crowley Latin America Services, LLC; Crowley Caribbean Services, LLC; and Alianca Navegacao e Logistics Ltda. as parties to the agreement.

Agreement No.: 011689-014.

Title: Zim/CSCL Slot Charter Agreement.

Parties: Zim Integrated Shipping Services, Ltd.; China Shipping Container Line Co., Ltd.; and China Shipping Container Lines (Hong Kong) Co., Ltd.

Filing Party: Tara L. Leiter, Esquire; Blank Rome LLP; 600 New Hampshire Avenue NW., Washington, DC 20037.

Synopsis: The amendment would delete a service between the Far East and North Europe and replace it with a service between the Far East and the Mediterranean.

Agreement No.: 011962-008.

Title: Consolidated Chassis Management Pool Agreement.

Parties: The Ocean Carrier Equipment Management Association and its member lines; the Association's subsidiary Consolidated Chassis Management LLC and its affiliates; Chicago Ohio Valley Consolidated Chassis Pool LLC; China Shipping Container Lines Co., Ltd.; Companhia Libra de Navegacao; Compania Libra de Navegacion Uruguay; Matson Navigation Co.; Mediterranean Shipping Co., S.A.; Midwest Consolidated Chassis Pool LLC; Norasia Container Lines Limited; Westwood Shipping Lines; and Zim Integrated Shipping Services Ltd.

Filing Party: Jeffrey F. Lawrence, Esq.; Cozen O'Conner; 1627 I Street NW., Suite 1100; Washington, DC 20006-4007.

Synopsis: The amendment would add Crowley Latin America Services, LLC; Crowley Caribbean Services, LLC; and Alianca Navegacao e Logistics Ltda. as parties to the agreement.

Agreement No.: 012135-001.

Title: EUKOR Car Carriers, Inc./FOML Space Charter.

Parties: EUKOR Car Carriers, Inc. and FESCO Ocean Management Limited

Filing Parties: Neal M Mayer, Esq.; Hoppel, Mayer & Coleman; 1050 Connecticut Avenue NW., 10th Floor; Washington, DC 20036

Synopsis: The amendment adds Port Everett, WA to the geographic scope of the agreement.

Agreement No.: 012163.

Title: MSC/CMA CGM U.S. East Coast—East Coast South America Service Space Charter Agreement.

Parties: Mediterranean Shipping Company S.A. and CMA CGM S.A.

Filing Party: Wayne R. Rohde, Esquire; Cozen O'Connor; 1627 I Street NW., Suite 1100; Washington, DC 20006-4007.

Synopsis: The agreement would authorize MSC to charter space to CMA CGM in the trade between the U.S. East Coast and the East Coast of South America and the Bahamas.

Dated: April 6, 2012.
By Order of the Federal Maritime Commission.
Karen V. Gregory,
Secretary.

[FR Doc. 2012-8767 Filed 4-10-12; 8:45 am]

BILLING CODE 6730-01-P